OFFICE OF MANAGEMENT AND BUDGET

Fiscal Year 2020 Cost of Inpatient Hospital and Medical Care Treatment Furnished by the Department of Defense Medical Treatment Facilities; Certain Rates Regarding Recovery From Tortiously Liable Third Persons

AGENCY: Office of Management and Budget, Executive Office of the President.

ACTION: Notice.

By virtue of the authority vested in the President by 42 U.S.C. 2652, the rates referenced below are hereby established. These rates are for use in connection with the recovery from tortiously liable third persons for the inpatient medical services furnished by military treatment facilities through the Department of Defense. They are the same rates as the inpatient third party reimbursement rates that were set on October 1, 2019 for billing medical insurers, but require a different approval authority for the purpose of billing for tort liability. The rates were established in accordance with the requirements of OMB Circular A-25, requiring reimbursement of the full cost of all services provided. The fiscal year 2020 inpatient medical rates referenced are effective for billing tort liability upon publication of this notice in the Federal Register and will remain in effect until further notice. Previously published outpatient medical and dental, and cosmetic surgery rates remain in effect until further notice. Pharmacy rates are updated periodically. A full disclosure of the rates is posted at Health.mil website in the Defense Health Agency Uniform Business Office section (http://health.mil/Military-Health-Topics/Business-Support/Uniform-Business-Office/Billing/Medical-Affirmative-Claims).

Robert S. Fairweather,
Acting Director.

[FR Doc. 2021-03633 Filed 2-22-21; 8:45 am]

BILLING CODE 3110-01-P